Proclamation 10665 of October 31, 2023

National Family Caregivers Month, 2023

By the President of the United States of America

A Proclamation

How we treat our children, parents, and loved ones and how we value those who care for them are fundamental to who we are as a Nation. Early care and education give young children a strong start in life while long-term care helps older Americans, veterans, and people with disabilities live and work with dignity. During National Family Caregivers Month, we honor the Americans who lift up our communities and our Nation by providing dignified, professional, and invaluable care to the people we cherish the most.

The cost of care in this country is too high, and the pay for care workers is too low. A majority of Americans struggle to find affordable, high-quality care for themselves and their loved ones. At the same time, care workers remain among the lowest-paid workers in the country, though their jobs are some of the most demanding. More than half of long-term care employees and nearly 20 percent of child care workers leave their jobs every year. As a result, many Americans are forced to leave their own jobs behind to care for their loved ones.

No one should have to choose between the parents who raised them, the loved ones who depend on them, or the paycheck they rely on to care for their families. That is why as soon as I got into office, I signed the American Rescue Plan to help millions of families afford child care. Through that law, we provided $145 million to help the National Family Caregiver Support Program deliver counseling, training, and short-term relief to family caregivers and other informal care providers. We also helped States expand and strengthen Medicaid home care programs, increased Child Care and Development Block Grants that help low-income families afford child care, and provided crucial support to stabilize the child care sector more broadly. Consequently, we were able to keep the doors of 220,000 child care providers open during the pandemic, ensuring nearly 10 million children received care.

Last year, we also issued the first-ever national Strategy to Support Family Caregivers, outlining hundreds of actions that the Federal Government can take to support family caregivers' health, well-being, and financial security. We required companies seeking significant Federal funding from our CHIPS and Science Act to submit a plan on how they will help employees access affordable child care. Further, my Administration proposed a rule that would set a Federal floor for staffing levels in nursing homes. This spring, joined by people with disabilities, family caregivers, long-term care workers, early educators, veterans, and aging advocates, I signed a historic Executive Order that calls for the most comprehensive set of actions of any administration to date to increase access to high-quality child care and long-term care and support for caregivers. The order improves access to home-based care for people with disabilities and veterans, expands access to mental health benefits to care workers and veteran family caregivers, lowers child care costs for hard-working families, builds the supply of high-quality care to provide more options to individuals and families, helps protect workers from exploitation, and much more.

This week, we recognize the love and sacrifice of millions of American caregivers. They are the backbone of our country, caring for young children, aging parents, disabled veterans, injured service members, and others who need support and medical assistance. Let us celebrate and honor our caregivers and renew our efforts to protect their dignity, health, and security. Because when we care for our caregivers, we honor our American ideals and move closer to a future where no one in this Nation is left behind.

NOW, THEREFORE, I, JOSEPH R. BIDEN JR., President of the United States of America, by virtue of the authority vested in me by the Constitution and the laws of the United States, do hereby proclaim November 2023 as National Family Caregivers Month. I encourage all Americans to reach out to those who provide care for our Nation's family members, friends, and neighbors in need to honor and thank them.

IN WITNESS WHEREOF, I have hereunto set my hand this thirty-first day of October, in the year of our Lord two thousand twenty-three, and of the Independence of the United States of America the two hundred and forty-eighth.

[FR Doc. 2023-24500

Filed 11-2-23; 8:45 am]

Billing code 3395-F4-P